DEPARTMENT OF DEFENSE

Department of the Army

Proposed Collection; Comment Request

AGENCY: Deputy Chief of Staff for Personnel (DAPE-ZXI-RM), DoD.

ACTION: Notice.

In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 1, 2001.

ADDRESSES: Written comments and recommendations on the proposed information collection should be sent to Department of the Army, Military Traffic Management Command, 200 Stovall Street, Alexandria, Virginia 22332-5000, ATTN: (Mark Gerade). Consideration will be given to all comments received within 60 days of the date of publication of this notice.

FOR FURTHER INFORMATION CONTACT: To request more information on this proposed information collection or to obtain a copy of the proposal and associated collection instruments, please write to the above address, or call Department of the Army Reports Clearance Officer at (703) 614-0454.

Title, Associated Form, and OMB Number: Signature and Tally Records, DD Form 1907, OMB Control Number 0702-0027.

Needs and Uses: Signature and Tally Record (STR) is an integral part of the Defense Transportation System and is used for commercial movements of all sensitive and classified material. The STR provides continuous responsibility for the custody of shipments in transit and requires each person responsible for the proper handling of the cargo to sign their name at the time they assume responsibility for the shipment, from point of origin and at specified stages until delivery at destination.

Affected Public: Business or other for profit.

Annual Burden Hours: 3,750.

Number of Respondents: 130.

Responses per Respondent: 75,000.

Average Burden per Response: 3 minutes.

Frequency: As required.

SUPPLEMENTARY INFORMATION: The destination transportation officer uses the DD Form 1907 to assure that the carriers utilize the STR and provide the transportation service as requested by origin shipper. A copy of the STR, along with other transportation documentation, is forwarded by the carrier to the appropriate finance center for payment. The DD Form 1907 verifies the protected services requested in the Bill of Lading that was provided.

Luz D. Ortiz,
Army Federal Register Liaison Officer.

[FR Doc. 01-18996 Filed 7-30-01; 8:45 am]

BILLING CODE 3710-08-M